DEPARTMENT OF STATE

[Public Notice 5792]

Bureau of Educational and Cultural Affairs; International Visitor Leadership Program Assistance Awards

AGENCY: Department of State.

ACTION: Amendment to original RFGP.

SUMMARY: The United States Department of State, Bureau of Educational and Cultural Affairs, announces revisions to the original RFGP announced in the Federal Register on Thursday, April 19, 2007 (Federal Register Vol. 72, No. 75):

IV.3e.1. Applicants must provide a detailed budget for administrative expenses only. Administrative costs are those costs that include applicant's staff salaries, benefits, telephone, fax, printing, office supplies, etc. All overhead costs associated with the program (for supervision, financial management, and other overhead expenses) are to be included in the proposal and should be controlled, reduced, or shared. The costs of support/central office in any parent agency (whether covered through an indirect costs' rate or as a direct cost) should be limited or cost shared to the extent possible. Concrete plans to streamline operations covered by overhead and non-program staff functions should be described in proposal submissions. (See Budget Guidelines in the PSI document.)

Additional Information

Interested organizations should contact Michelle Lampher, Chief, Community Resources Division, Office of International Visitors, Bureau of Educational and Cultural Affairs, U.S. Department of State, ECA/PE/V/C SA-44, Rm 247, 301 4th Street, SW., Washington, DC 20547, prior to Tuesday, June 12, 2007.

Dated: May 1, 2007.
Dina Habib Powell,
Assistant Secretary for Educational and Cultural Affairs, U.S. Department of State.

[FR Doc. E7-8684 Filed 5-4-07; 8:45 am]

BILLING CODE 4710-05-P